ENVIRONMENTAL PROTECTION AGENCY

[FRL-7547-1]

Public Water System Supervision Program Revision for the State of Arkansas

AGENCY: Environmental Protection Agency (EPA).

ACTION: Notice of tentative approval.

SUMMARY: Notice is hereby given that the State of Arkansas is revising its approved Public Water System Supervision Program. Arkansas has adopted the Lead and Copper Rule Minor Revisions to provide monitoring relief for public water systems and clarify some corrosion control treatment requirements, Variance and Exemptions Rule to maintain the authority to issue variances and exemptions especially small system variances, Public Notification Rule to provide more timely notice for violations that pose an acute risk to public health, Radionuclides Rule to standardize the monitoring of radiological contaminants and establish a maximum contaminant level (MCL) for uranium, the Arsenic Rule to provide for better public health protection by lowering the MCL for arsenic and the Filter Backwash Recycling Rule to require water systems to institute changes to return recycle flow to a plant's treatment process that may otherwise compromise microbial control. EPA has determined that these revisions are no less stringent than the corresponding Federal regulations. Therefore, EPA intends to approve these program revisions.

DATES: All interested parties may request a public hearing. A request for a public hearing must be submitted by September 22, 2003 to the Regional Administrator at the EPA Region 6 address shown below. Frivolous or insubstantial requests for a hearing may be denied by the Regional Administrator. However, if a substantial request for a public hearing is made by September 22, 2003, a public hearing will be held. If no timely and appropriate request for a hearing is received and the Regional Administrator does not elect to hold a hearing on his own motion, this determination shall become final and effective on September 22, 2003. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection between the hours of 8 a.m. and 4:30 p.m., Monday through Friday, at the following offices:

Arkansas Department of Health, Division of Engineering—Slot #37, 4815 West Markham, Little Rock, Arkansas 72205 and United States Environmental Protection Agency, Region 6, Drinking Water Section (6WQ-SD), 1445 Ross Avenue, Suite 1200, Dallas, Texas 75202.

FOR FURTHER INFORMATION CONTACT: José G. Rodriguez, EPA Region 6, Drinking Water Section at the Dallas address given above or at telephone (214) 665-8087.

Authority: (Section 1413 of the Safe Drinking Water Act, as amended (1996), and 40 CFR part 142 of the National Primary Drinking Water Regulations)

Dated: August 14, 2003.
Lawrence Starfield,
Acting Regional Administrator, Region 6.

[FR Doc. 03-21426 Filed 8-20-03; 8:45 am]

BILLING CODE 6560-50-P